FEDERAL ELECTION COMMISSION

Sunshine Act Notices

AGENCY: Federal Election Commission.

Cancellation: The Open Meeting scheduled for Thursday, May 21, 2009, was cancelled.

Date and Time: Thursday, June 18, 2009, at 10 a.m.

Place: 999 E Street, NW., Washington, DC (Ninth Floor).

Status: This Meeting Will Be Open To The Public.

Items to be Discussed: Correction and Approval of Minutes.

Draft Advisory Opinion 2009-11: Senator John Kerry and the John Kerry for Senate Committee, by Marc E. Elias, Esq. and Kate S. Keane, Esq.

Report of the Audit Division on the Ciro D. Rodriguez for Congress Committee.

Management and Administrative Matters.

Individuals who plan to attend and require special assistance, such as sign language interpretation or other reasonable accommodations, should contact Mary Dove, Commission Secretary, at (202) 694-1040, at least 72 hours prior to the hearing date.

PERSON TO CONTACT FOR INFORMATION: Judith Ingram, Press Officer, Telephone: (202) 694-1220.

Mary W. Dove,
Secretary of the Commission.

[FR Doc. E9-14047 Filed 6-16-09; 8:45 am]

BILLING CODE 6715-01-M